DEPARTMENT OF TRANSPORTATION

Pipeline and Hazardous Materials Safety Administration

Office of Hazardous Materials Safety; Notice of Delays in Processing of Special Permits Applications

AGENCY: Pipeline and Hazardous Materials Safety Administration (PHMSA), DOT.

ACTION: List of applications delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Delmer F. Billings, Director, Office of Hazardous Materials Special Permits and Approvals, Pipeline and Hazardous Materials Safety Administration, U.S. Department of Transportation, East Building, PHH-30, 1200 New Jersey Avenue, Southeast, Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application.

M—Modification request.

PM—Party to application with modification request.

Issued in Washington, DC, on December 9, 2010.
Donald Burger,
Chief, Special Permits and Approvals Branch.

Application No. | Applicant | Reason for delay | Estimated date of completion
Modification to Special Permits
10922-M | FIBA Technologies, Inc. Millbury, MA | 4 | 12-31-2010
14167-M | Trinityrail, Dallas, TX | 4 | 03-31-2011
13736-M | ConocoPhillips, Anchorage, AK | 4 | 03-31-2011
6293-M | ATK Space Systems, Inc. (Former Grantee: ATK Thiokol, Inc.), Corine, UT | 4 | 03-31-2011
14741-M | Weatherford International, Fort Worth, TX | 4 | 03-31-2011
14650-M | Air Transport International, L.L.C., Little Rock, AR | 4 | 03-31-2011
14926-M | Lynden Air Cargo, Anchorage, AK | 4 | 11-30-2010
8826-M | Phoenix Air Group, Inc., Cartersville, GA | 4 | 03-31-2011
10869-M | Norris Cylinder Company, Longview, TX | 4 | 03-31-2011
10049-M | Martin Transport, Inc., Kilgore, TX | 4 | 01-31-2011
8815-M | Florex Explosives, Inc., Crystal River, FL | 4 | 01-31-2011
14447-M | SNF Holding Company , Riceboro, GA | 4 | 01-31-2011
12561-M | Rhodia, Inc., Cranbury. NJ | 4 | 01-31-2011
14617-M | Western International, Gas Cylinders, Inc., Bellville, TX | 4 | 01-31-2011
3121-M | Department of Defense, Scott Air Force Base, IL | 4 | 02-15-2011
12783-M | CryoSurgery, Inc., Nashville, TN | 4 | 02-15-2011
14573-M | Polar Tank Trailer, LLC-FC, Holdingford, MN | 4 | 02-15-2011
I0407-M | Thermo Process Instruments, LP (Former Grantee: Thermo MeasureTech), Sugar Land, TX | 4 | 02-15-2011
14546-M | Linde Gas North America LLC-FC Murray Hill, NJ | 4 | 02-15-2011
14763-M | Weatherford International, Forth Worth, TX | 4 | 02-15-2011
10646-M | Schlumberger Technologies Corporation, Sugar Land, TX | 4 | 02-15-2011
12929-M | Air Products & Chemicals, Inc., Allentown, PA | 4 | 02-15-2011
11789-M | Mallard Creek Polymers, Inc., Charlotte, NC | 4 | 02-15-2011
8445-M | Clean Harbors Environmental Services, Inc.—Fails MEF, Norwell, MA | 4 | 02-15-2011
14860-M | Alaska Airlines, Seattle, WA | 4 | 01-31-2011
New Special Permit Applications
14810-N | Olin Corporation, Chior Alkai Products Division, Cleveland, TN | 4 | 03-31-2011
14813-N | Organ Recovery Systems, Des Plaines, IL | 4 | 03-31-2011
14835-N | The Reusable Industrial Packaging Assoc., Washington, DC | 4 | 03-31-2011
14839-N | Matheson Tn-Gas, Inc., Basking Ridge, NJ | 3 | 11-30-2010
14851-N | Alaska Airlines, Inc., Seattle, WA | 4 | 03-31-2011
14868-N | Wal-Mart Stores, Inc., Bentonville, AR | 4 | 03-31-2011
14878-N | Humboldt County Waste Management Authority, Eureka, CA | 4 | 03-31-2011
14872-N | Arkema, Inc., Philadelphia, PA | 4 | 03-31-2011
14929-N | Alaska Island Air, Inc., Togiak, AK | 4 | 11-30-2010
14945-N | Vulcan Construction Materials LP SE dlb/a Vulcan Materials Company, Atlanta, GA | 4 | 03-31-2011
1495 1-N | Lincoln Composites, Lincoln, NE | 1 | 11-30-2010
14960-N | Cheltec, Inc., Sarasota, FL | 4 | 03-31-2011
14965-N | JiangXi Oxygen Plant Co., Ltd., Jiangxi Province | 4 | 11-30-2010
14972-N | Air Products and Chemicals, Allentown, PA | 4 | 11-30-2010
14977-N | Air Products and Chemicals, Inc., Allentown, PA | 4 | 03-31-2011
14985-N | Southern States, LLC, Atlanta, GA | 4 | 02-15-2011
14992-N | VIP Transport, Inc., Corona, CA | 4 | 02-28-2010
14989-N | Vinci-technologies | 4 | 02-28-2011
14994-N | Auto Chior System, Memphis, TN | 4 | 02-28-2010
15003-N | Gebauer Company, Cleveland, OH | 4 | 02-28-2011
15027-N | Northrop Grumman Corporation, Baltimore, MD | 4 | 02-28-2011
15028-N | Roeder Cartage Company, LIMA, OH | 4 | 02-28-2011
15031-N | Euro Asia Packaging (Guangdong) Co., Ltd. ZhongShan, Canton | 4 | 02-28-2011
15036-N | UTLX Manufacturing, Incorporated, Alexandria, LA | 4 | 02-28-2011
15175-N | Horizon Air Industries, Inc., Seattle, WA | 4 | 02-28-2011

[FR Doc. 2010-31403 Filed 12-15-10; 8:45 am]

BILLING CODE 4910-60-M